DEPARTMENT OF THE INTERIOR

National Park Service

[NPS-WASO-NRNHL-13833; PPWOCRADI0, PCU00RP14.R50000]

National Register of Historic Places; Notification of Pending Nominations and Related Actions

Nominations for the following properties being considered for listing or related actions in the National Register were received by the National Park Service before August 10, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 16, 2013. Before including your address, phone number, email address, or other personal identifying information in your comment, you should be aware that your entire comment—including your personal identifying information—may be made publicly available at any time. While you can ask us in your comment to withhold your personal identifying information from public review, we cannot guarantee that we will be able to do so.

Dated: August 14, 2013.
Patrick Andrus,
Acting Chief, National Register of Historic Places/National Historic Landmarks Program.

CALIFORNIA

Los Angeles County

Strathmore Apartments, 11005-11013 ½ Strathmore Dr., Los Angeles, 13000754

INDIANA

Allen County

Foster Park Neighborhood Historic District, (Park and Boulevard System of Fort Wayne, Indiana MPS) Roughly bounded by Old Mill Rd., Rudisell Blvd., Kimmel Dr. & Lexington Ave., Fort Wayne, 13000755

Knox County

Gregg Park, 2204 Washington Ave., Vincennes, 13000756

Kimmell Park, 2014 Oliphant Dr., Vincennes, 13000757

La Porte County

Elston Grove Historic District, Bounded by Michigan Blvd., 11th, Pine & 6th Sts., Michigan City, 13000759

Lake County

St. Augustine's Episcopal Church, 2425 W. 19th Ave., Gary, 13000758

Marshall County

Plymouth Northside Historic District, Center & Michigan Sts. between Adams & Novelty Sts. & the blks. surrounding the courthouse square, Plymouth, 13000760

KANSAS

Marshall County

Alcove Spring (Boundary Increase), E. River Rd, Blue Rapids, 13000761

Pottawatomie County

Scott Spring, Address Restricted, Westmoreland, 13000762

MICHIGAN

Dickinson County

Iron Mountain Central Historic District, Broadly Fleshiem to C St. & Iron Mountain to Stockbridge Ave., Iron Mountain, 13000763

NEW JERSEY

Monmouth County

Fort Monmouth Historic District, Oceanport Ave., Oceanport Borough, 13000764

NEW MEXICO

Colfax County

Santa Fe Trail—Segment West of Point of Rocks, (Santa Fe Trail MPS) Address Restricted, Gladstone, 13000765

Eddy County

Artesia Residential Historic District, Roughly bounded by W. Missouri Ave., W. Main, S. 2nd & S. 10th Sts., Artesia, 13000766

Grant County

Silver City Historic District (Boundary Increase), Roughly bounded by College Ave., the Big Ditch, San Vicente & Black, Silver City, 13000767

Lincoln County

Old Dowlin Mill, 641 Sudderth Dr., Ruidoso, 13000768

Luna County

Downtown Deming Historic District, Roughly bounded by Silver Ave., Pine, Maple & Copper Sts., Deming, 13000769

Mora County

Santa Fe Trail—Alpine Mesa Segment, (Santa Fe Trail MPS) Address Restricted, Ocate, 13000770

Santa Fe Trail—Mora County Segment North of Wagon Mound, (Santa Fe Trail MPS) Address Restricted, Wagon Mound, 13000771

Santa Fe Trail—Piojo Ranch Segments District, (Santa Fe Trail MPS) Address Restricted, Watrous, 13000772

San Juan County

Pond, Florence and John R., House, 1875 NM 170, La Plata, 13000773

Santa Fe County

El Rancho de las Golondrinas Section—El Camino Real de Tierra Adento, (Camino Real in New Mexico, AD 1598-1881 MPS) Address Restricted, Santa Fe, 13000774

La Cieneguilla South Section—El Camino Real de Tierra Adento, (Camino Real in New Mexico, AD 1598-1881 MPS) Address Restricted, La Cienega, 13000775

Santa Fe Trail—Canada de los Alamos Site, (Santa Fe Trail MPS) Address Restricted, Canoncito at Apache Canyon, 13000776

Union County

Santa Fe Trail—Magazine Ruts Segment, (Santa Fe Trail MPS) Address Restricted, Sofia, 13000777

NEW YORK

Chemung County

Eaton, Warren E., Motorless Flight Facility, 62 Soaring Hill Dr., Big Flats, 13000778

Suffolk County

COIMBRA (shipwreck and remains), (World War II Shipwrecks along the East Coast and Gulf of Mexico MPS) Address Restricted, Westhampton, 13000779

NORTH CAROLINA

Dare County

DIXIE ARROW (shipwreck and remains), (World War II Shipwrecks along the East Coast and Gulf of Mexico MPS) Address Restricted, Ocracoke, 13000781

E.M. CLARK (shipwreck and remains), (World War II Shipwrecks along the East Coast and Gulf of Mexico MPS) Address Restricted, Cape Hatteras, 13000780

EMPIRE GEM (shipwreck and remains), (World War II Shipwrecks along the East Coast and Gulf of Mexico MPS) Address Restricted, Cape Hatteras, 13000782

WISCONSIN

Winnebago County

North Main Street Bungalow Historic District, North Main St. generally bounded by Nevada & Huron Aves., Oshkosh, 13000783

[FR Doc. 2013-21161 Filed 8-29-13; 8:45 am]

BILLING CODE 4312-51-P